DEPARTMENT OF COMMERCE

United States Patent and Trademark Office

[Docket No. 2003-C-016]

Notice of Publication of the 2002 Annual Index to the Electronic Official Gazette of the Patent and Trademark Office—Patents (eOG:P)

AGENCY: United States Patent and Trademark Office, Commerce.

ACTION: Notice.

SUMMARY: Notice is hereby given that the United States Patent and Trademark Office (USPTO) has published the 2002 Annual Index to the Electronic Official Gazette of the United States Patent and Trademark Office—Patents (eOG:P). This annual index is published on DVD-ROM.

DATES: The 2002 Annual Index to the eOG:P is now available.

SUPPLEMENTARY INFORMATION: The United States Patent and Trademark Office has announced that the 2002 Annual Index to the Electronic Official Gazette of the United States Patent and Trademark Office “ Patents (eOG:P) is now available. This electronic annual index is unique from previous paper annual indexes in that the indexes and bibliographic records for the year are now included in this one source. The 2002 Annual Index provides all records contained in the weekly issues of the eOG:P for 2002, including January through June, which were previously not available electronically.

The eOG:P records contain bibliographic information, including classification, inventor and assignee, as well as a representative claim and drawing (if applicable). Consistent with the weekly eOG:P issues, patents are indexed and browsable by classification and type of patent (utility, plant, etc.), as well as by patentee name and geographical location of the inventor. Links are provided from all indexes to the eOG:P record for that patent.

The Official Gazette Notices, covering both patents and trademarks, are included as is the Consolidated Listing of Official Gazette Notices Re—Patent and Trademark Office Practices and Procedures. This publication is a compilation of the most important notices and rule changes which have been published in the Official Gazette from July 1, 1964, through December 21, 2002. Appendices include a summary of the number of Patents, Defensive Publications, and Statutory Invention Registrations issued from 1836 through 2002 and a listing of Patent and Trademark Depository Libraries (PTDLs).

Due to the large amount of data, the 2002 Annual Index to the eOG:P is published on one DVD-ROM disc, not on CD-ROM. The price of the index is $300.00 and is not included in the annual subscription price of the eOG:P.

The Index of Patents Issued From the United States Patent and Trademark Office will continue to be published in a paper format through 2002 to coincide with the paper publication of the Official Gazette —Patents, which ceased publication as of September 24, 2002. This publication will continue to be supplied by the Superintendent of Documents, U.S. Government Printing Office (GPO). For more information, please visit the GPO Web site at: http://www.access.gpo.gov/su_docs/.

FOR FURTHER INFORMATION CONTACT: Office of Electronic Information Products, Crystal Park 3, Suite 441, Washington, DC 20231, Phone: (703) 306-2600/ Fax: (703) 306-2737, e-mail: cassis@uspto.gov

Dated: April 14, 2003.
James E. Rogan,
Under Secretary of Commerce for Intellectual Property and Director of the United States Patent and Trademark Office.

[FR Doc. 03-9659 Filed 4-18-03; 8:45 am]

BILLING CODE 3510-16-P